OFFICE OF THE UNITED STATES TRADE REPRESENTATIVE

Notice of Request for Public Comments on the Review and Renegotiation of the United States-Israel Agreement on Trade in Agricultural Products

AGENCY: Office of the United States Trade Representative.

ACTION: Notice.

SUMMARY: The Trade Policy Staff Committee (TPSC) is soliciting written comments on U.S. objectives for upcoming negotiations on the renewal of the United States-Israel Agreement on Trade in Agricultural Products (ATAP). Specifically, the TPSC is seeking comments on general negotiating objectives and product-specific requests.

DATES: Public comments are due by noon December 29, 2000.

FOR FURTHER INFORMATION CONTACT: For procedural questions concerning public comments, contact Gloria Blue, Executive Secretary, TPSC, Office of the USTR, 600 17th Street, NW., Washington, DC 20508 (202) 395-3475. All other questions regarding the negotiations should be addressed to Ned Saums, Director for Middle Eastern Affairs, Office of the USTR, (202) 395-3320.

SUPPLEMENTARY INFORMATION: The 1985 Agreement on the Establishment of a Free Trade Area between the Government of Israel and the Government of the United States of America (FTAA) was intended to apply, in full, to trade in all products between the two countries. However, the United States and Israel held differing interpretations as to the meaning of certain rights and obligations related to agricultural products under the FTAA. In the interest of achieving practical improvements in agricultural trade between the two countries, the United States and Israel in November 1996 signed the Agreement on Trade in Agricultural Products (ATAP). The ATAP, an adjunct to the FTAA, is a five-year agreement, expiring on December 31, 2001.

According to the ATAP, U.S. agricultural products exported to Israel are divided into three categories: (1) Products which are exempt from tariffs, (2) products which are exempt from tariffs within certain quantities, (3) products which are imported at a preferential tariff rate. Israeli agricultural products are treated differently under the ATAP. Following the implementation of the 1985 FTAA, most Israeli agricultural products exported to the U.S. had duty-free access to the U.S. market. Therefore, duty-free quota allocations, in excess of U.S. WTO commitments, are the principle concessions granted to Israeli products as a result of the ATAP. Not later than January 31, 2001, The United States and Israel have committed to initiate a review of the operation of the ATAP and to seek further improvements. In preparation, USTR is soliciting detailed written comments, including data and arguments, addressing:

(a) General and product-specific negotiating objectives for the ATAP;

(b) Economic costs and benefits to U.S. producers and exporters related to the reduction or removal of current restrictions to the Israeli agricultural market;

(c) Product-specific export interests or barriers (described by Harmonized Tariff System numbers);

(d) Detailed accounts of particular trade-restrictive measures that should be addressed in the negotiations; and,

(e) Other relevant issues, including potential environmental implications of the proposed agreement.

Written Comments

Persons submitting written comments should provide twenty (20) copies no later than noon, December 29, 2000, to Gloria Blue at the address listed above. Where possible, please supplement written comments with a computer disk of the submission containing as much of the technical details as possible either in spreadsheet or word processing table format, with each tariff line/services sector in a separate cell. The disk should have a label identifying the software used and the submitter.

Written comments submitted in connection with this request, except for information granted “business confidential” status pursuant to 15 CFR 2003.6, will be available for public inspection in the USTR Reading Room (Room 101) at the address noted above. An appointment to review the file may be made by calling Brenda Webb at (202) 395-6186. The Reading Room is open to the public from 10 a.m. to 12 noon, and from 1 p.m. to 4 p.m. Monday through Friday.

Business confidential information, including any information submitted on disks, will be subject to the requirements of 15 CFR 2003.6. Any business confidential material must be clearly marked as such on the cover letter or page and each succeeding page, and must be accompanied by a non-confidential summary thereof. If the submission contains business confidential information, twenty copies of a public version that does not contain confidential information, must be submitted. A justification as to why the information contained in the submission should be treated confidentially must be included in the submission. In addition, any submissions containing business confidential information must be clearly marked “Confidential” at the top and bottom of the cover page (or letter) and each succeeding page of the submission. The version that does not contain confidential information should also be clearly marked, at the top and bottom of each page, “public version” or “non-confidential.”

Carmen Suro-Bredie,
Assistant U.S. Trade Representative for Policy Coordination.

[FR Doc. 00-30648 Filed 11-30-00; 8:45 am]

BILLING CODE 3190-01-P